DEPARTMENT OF LABOR

Office of the Secretary

Submission for OMB Review: Comment Request

February 11, 2005.

The Department of Labor (DOL) has submitted the following public information collection requests (ICRs) to the Office of Management and Budget (OMB) for review and approval in accordance with the Paperwork Reduction Act of 1995 (Pub. L. 104-13, 44 U.S.C. chapter 35). A copy of each ICR, with applicable supporting documentation, may be obtained by contacting Darrin King on 202-693-4129 (this is not a toll-free number) or e-mail: king.darrin@dol.gov.

Comments should be sent to Office of Information and Regulatory Affairs, Attn: OMB Desk Officer for the Mine Safety and Health Administration (MSHA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration.

Type of Review: Extension of currently approved collection.

Title: Refuse Piles and Impounding Structures, Recordkeeping and Reporting Requirements.

OMB Number: 1219-0015.

Form Number: None.

Type of Response: Recordkeeping and reporting.

Affected Public: Business or other for-profit.

Number of Respondents: 770.

Cite/reference | Number of respondents | Frequency | Annual responses | Average time per response (hours) | Annual burden hours
77.215 New Refuse Piles | 1 | On occasion | 1 | 16 | 16
Abandonment Plans | 25 | On occasion | 25 | 8 | 200
77.216 New Impoundments | 4 | On occasion | 4 | 1,300 | 5,200
Revisions | 6 | On occasion | 6 | 40 | 240
Fire Extinguisher Plans | 1 | On occasion | .25 | 20 | 5
Annual Certifications (existing) | 39 | Annual | 39 | 2 | 78
Inspections w/monitoring Instruments | 296 | 17x/yr. | 5,032 | 3 | 15,096
w/o monitoring Instruments | 444 | 17x/yr | 7,548 | 2 | 15,096
Total |  |  | 12,655 |  | 35,931

Total Annualized Capital/Startup Costs: $0.

Total Annual Costs (Operating/Maintaining Systems or Purchasing Services): $7,372,120.

Description: Title 30 CFR part 77, subpart C, sets forth regulations for surface installations. More specifically, 30 CFR 30.215 addresses refuse piles and 30 CFR 77.216 addresses impoundments. Impoundments are structures that are used to impound water, sediment, or slurry or any combination of materials; and refuse piles are deposits of coal mine waste that are removed during mining operations or separated from mined coal and deposited on the surface. The failure of these structures can have a devastating affect on a community. To avoid or minimize such disasters, standards exist for the construction and maintenance of these structures, for annual certifications, for certification for hazardous refuse piles, for the frequency of inspections, and the methods of abandonment for impoundments and impounding structures.

Agency:Mine Safety and Health Administration.

Type of Review: Extension of currently approved collection.

Title: Examinations & Testing of Electrical Equipment Including Exam, Testing, and Maintenance of High Voltage Longwalls.

OMB Number: 1219-0116.

Form Number: None.

Type of Response: Recordkeeping and reporting.

Affected Public: Business or other for-profit.

Number of Respondents: 1,600.

Cite/reference | Frequency | Total responses | Response time (hours) | Annual burden hours
18.53(h) | On Occasion | 3 | 1.1 | 3
75.820(b) and (e) | Daily | 17,500 | 0.83 | 1,453
78.821(d) | Weekly | 2,500 | 1.5 | 3,750
75.512 and 75.703 3(d)(11) | Weekly | 760,100 | 0.5 | 380,050
77.502 | Monthly | 271,272 | 1.25 | 339,090
75.800-3&4 and 77.800-1&2 | Monthly | 31,188 | 0.75 | 23,391
75.900-3&4 | Monthly | 65,760 | 1.5 | 98,640
77.900-1&2 | Monthly | 18,084 | 0.75 | 13,563
75.1001-1(b)&(c) | 6 Months | 1,836 | 1.5 | 2,754
75.351 | Monthly | 7,128 | 1.25 | 8,910
Total |  | 1,175,371 |  | 871,604

Total Annualized Capital/Startup Costs: $0.

Total Annual Costs (Operating/Maintaining Systems or Purchasing Services): $0.

Description: The Federal Mine Safety and Health Act of 1977 (Act) and 30 CFR parts 75 and 77, Mandatory standards for coal mines make the collection of information necessary.

It has long been known that inadequate maintenance of electric equipment is a major cause of serious electrical accidents in the coal mining industry. It is imperative that mine operators adopt and follow an effective maintenance program to ensure that electric equipment is maintained in a safe operating condition if electrocutions, mine fires, and mine explosions are to be prevented. The subject regulations require the mine operator to establish an electrical maintenance program by specifying minimum requirements for the examination, testing, and maintenance of electric equipment.

The respondents for the paperwork provisions of the subject regulations are coal mine operators. The records of tests and examinations are reviewed by coal miners, coal mine officials, and MSHA and State inspectors. The records are intended to indicate whether examinations and tests were conducted and give insight into the hazardous conditions that have been encountered and those that may be encountered. These records greatly assist those who use them in making decisions that will ultimately affect the safety and health of miners.

Miners examine the records to determine if electric equipment is safe to operate and to determine if reported safety defects have been corrected. Mine officials examine the records to evaluate the effectiveness of their electrical maintenance programs, to determine that the required tests and examinations have been conducted, and to determine if reported safety defects have been corrected. MSHA and State inspectors review the records to determine if the required tests and examinations have been conducted and to identify units of electric equipment that may pose a potential safety hazard, and to evaluate the effectiveness of the coal mine operator's electrical maintenance programs. By comparing the records with the actual condition of electric equipment, MSHA inspectors may, in some cases, be able to identify weaknesses in the coal mine operator's electrical maintenance programs and require that these weaknesses be corrected.

Darrin A. King,
Acting Departmental Clearance Officer

[FR Doc. 05-3076 Filed 2-16-05; 8:45 am]

BILLING CODE 4510-43-P